DEPARTMENT OF COMMERCE

International Trade Administration

Establishment of the Renewable Energy and Energy Efficiency Advisory Committee and Solicitation of Nominations for Membership

AGENCY: International Trade Administration, DOC.

ACTION: Notice of establishment of the Renewable Energy and Energy Efficiency Advisory Committee and solicitation of nominations for membership.

SUMMARY: Pursuant to provisions under the Federal Advisory Committee Act, 5 U.S.C. App., the Under Secretary of Commerce for International Trade announces the establishment of the Renewable Energy and Energy Efficiency Advisory Committee (the Committee) by the Secretary of Commerce. The Committee shall advise the Secretary regarding the development and administration of programs and policies to expand the competitiveness of the U.S. renewable energy and energy efficiency sectors, including programs and policies to expand U.S. exports of goods and services related to renewable energy and energy efficiency in accordance with applicable United States regulations. This notice also requests nominations for membership.

DATES: Nominations for members must be received on or before July 30, 2010.

Nominations

The Secretary of Commerce invites nominations to the committee of U.S. citizens who will represent U.S. companies in the renewable energy and energy efficiency sector that trade internationally, or U.S. trade associations or U.S. private sector organizations with activities focused on the competitiveness of U.S. renewable energy and energy efficiency goods and services. No member may represent a company that is majority owned or controlled by a foreign government entity or foreign government entities. Nominees meeting the eligibility requirements will be considered based upon their ability to carry out the goals of the Committee as articulated above. Self-nominations will be accepted. If you are interested in nominating someone to become a member of the Committee, please provide the following information:

(1) Name, title, and relevant contact information (including phone, fax, and e-mail address) of the individual requesting consideration;

(2) A sponsor letter on the company's, trade association's, or organization's letterhead containing a brief description why the nominee should be considered for membership;

(3) Short biography of nominee including credentials;

(4) Brief description of the company, trade association, or organization to be represented and its business activities; company size (number of employees and annual sales); and export markets served;

(5) An affirmative statement that the nominee is not a Federally registered lobbyist, and that the nominee understands that if appointed, the nominee will not be allowed to continue to serve as a Committee member if the nominee becomes a Federally registered lobbyist;

(6) An affirmative statement that the nominee meets all Committee eligibility requirements.

Please do not send company, trade association, or organization brochures or any other information.

Nominations may be e-mailed to brian.ohanlon@trade.gov or faxed to the attention of Brian O'Hanlon at 202-482-5665, or mailed to Brian O'Hanlon, Office of Energy & Environmental Industries, Room 4053, U.S. Department of Commerce, 1401 Constitution Avenue, NW., Washington, DC 20230, and must be received before July 30. Nominees selected for appointment to the Committee will be notified by return mail.

FOR FURTHER INFORMATION CONTACT: Brian O'Hanlon, Office of Energy & Environmental Industries, Room 4053, U.S. Department of Commerce, 1401 Constitution Avenue, NW., Washington, DC 20230; phone 202-482-3492; fax 202-482-5665; e-mail brian.ohanlon@trade.gov.

SUPPLEMENTARY INFORMATION:

I. Background and Authority

The Committee is being established under the discretionary authority of the Secretary, in response to an identified need for consensus advice from U.S. industry to the U.S. government on the development and administration of programs and policies to expand the competitiveness of the U.S. renewable energy and energy efficiency industries. The Department of Commerce will also use the Committee's advice in the Department's role as co-chair of the Renewable Energy and Energy Efficiency Working Group of the Trade Promotion Coordinating Committee (TPCC). The Federal Advisory Committee Act (5 U.S.C. App.) governs the Committee and sets forth standards for the formation and use of advisory committees.

For purposes of the Committee, the “renewable energy and energy efficiency industry” refers to goods and services related to renewable energy and energy efficiency. However, to maintain focus on electricity generation, the strategy will not include biofuels, feedstock for biofuels, transportation, and energy efficiency as it relates to consumer goods. Biomass used for power or heat generation is included.

In advising on the development and administration of programs and policies to expand the competitiveness of the U.S. renewable energy and energy efficiency industry, the Committee shall advise on matters concerning:

1. The competitiveness of the U.S. renewable energy and energy efficiency industries and its ability to develop products, services and technologies, including specific challenges associated with exporting;

2. Trade policy development and negotiations relating to U.S. renewable energy and energy efficiency exports;

3. U.S. Government programs to encourage U.S. producers of renewable energy and energy efficiency technologies, goods and services to enter foreign markets and enhance the competitiveness of the renewable energy and energy efficiency industry;

4. The effects of domestic policies, regulations, and programs on the competitiveness of U.S. renewable energy and energy efficiency companies;

5. Priority export markets for the renewable energy and energy efficiency industries, both in the short- and long-term;

6. Industry and trade association export promotion programs, and improved resource allocation for export promotion efforts; and

7. Policies and practices of foreign governments impacting the export of U.S. renewable energy and energy efficiency goods, services and technologies.

II. Structure, Membership, and Operation

The Committee shall consist of approximately 30 members appointed by the Secretary in accordance with applicable Department of Commerce guidance and based on their ability to carry out the objectives of the Committee. Members shall represent U.S. companies, U.S. trade associations, and U.S. private sector organizations with activities focused on the competitiveness of U.S. renewable energy and energy efficiency goods and services. Members shall reflect the diversity of this sector, including in terms of entity or organization size, geographic location, and subsector represented. The Secretary shall appoint to the Committee at least one individual representing each of the following:

a. A U.S. renewable energy company.

b. A U.S. energy efficiency company.

c. A U.S. small business in the renewable energy or energy efficiency industry that is involved in international trade.

d. A U.S. trade association in the renewable energy sector.

e. A U.S. trade association in the energy efficiency sector.

f. A U.S. private sector organization involved with activities concerning the international trade of renewable energy and energy efficiency products and services.

Members, all of whom come from the private sector, shall serve in a representative capacity, expressing the views and interests of a U.S. entity or organization, as well as their particular subsector; they are, therefore, not Special Government Employees. Each member of the Committee must be a U.S. citizen, and not registered as a foreign agent under the Foreign Agents Registration Act. Additionally, a member must not be a Federally registered lobbyist. No member may represent a company that is majority owned or controlled by a foreign government entity or entities. Appointments will be made without regard to political affiliation.

Members shall serve at the pleasure of the Secretary from the date of appointment to the COMMITTEE to the date on which the COMMITTEE's charter terminates (normally two years).

The Secretary shall designate the Committee Chair and Vice Chair from selections made by the members. The Chair and Vice Chair will serve in those positions at the pleasure of the Secretary.

The Department, through the Assistant Secretary for Manufacturing and Services, may establish subcommittees or working groups from among the Committee's members as may be necessary, and consistent with FACA, the FACA implementing regulations, and applicable Department of Commerce policies. Such subcommittees or working groups may not function independently of the chartered committee and must report their recommendations and advice to the Committee for full deliberation and discussion. Subcommittees or working groups have no authority to make decisions on behalf of the Committee nor can they report directly to the Secretary or his or her designee.

The Assistant Secretary for Manufacturing and Services shall designate a Designated Federal Officer (DFO) from among the employees of the Office of Energy and Environmental Industries. The DFO will approve or call all of the advisory committee meetings, prepare and approve all meeting agendas, attend all committee meetings, adjourn any meeting when the DFO determines adjournment to be in the public interest, and chair meetings when directed to do so by the Secretary.

The Assistant Secretary for Manufacturing and Services also shall designate the Committee's Executive Director from among the employees of the Manufacturing and Services unit.

III. Meetings

The Committee shall, to the extent practicable, meet approximately three times a year. Additional meetings may be called at the discretion of the Secretary or his designee.

IV. Compensation

Members of the COMMITTEE will not be compensated for their services or reimbursed for their travel expenses.

Dated: June 17, 2010.
Edward A. O'Malley,
Director, Office of Energy and Environmental Industries.

[FR Doc. 2010-15158 Filed 6-22-10; 8:45 am]

BILLING CODE 3510-DR-P